DEPARTMENT OF LABOR

Employment and Training Administration

[TA-W-55,175]

Levi Strauss and Company, Knoxville, TN; Notice of Revised Determination on Remand

The United States Court of International Trade (USCIT) granted the Department's motion for voluntary remand for further investigation in Former Employees of Levi Strauss and Company v. U.S. Secretary of Labor (Court No. 04-00580).

The Department's denial of the initial petition for Trade Adjustment Assistance (TAA) and Alternative Trade Adjustment Assistance (ATAA) was issued on July 27, 2004. The Notice of negative determination was published in the Federal Register on August 10, 2004 (69 FR 48530). The denial was based on the finding that the subject worker group did not produce an article within the meaning of Section 222(a)(2) of the Act and did not support production of an article by Levi Straus and Company, Knoxville, Tennessee or an appropriate subdivision of Levi Straus and Company.

By letter dated August 27, 2004, the petitioner requested administrative reconsideration, contending that the workers supported a qualifying production facility: Levi Straus, Powell, Tennessee. Because the Department's questions to the subject company whether the subject workers supported any domestic production facility was responded in the negative, the Department affirmed the initial determination. On September 17, 2004, the Department denied the petitioner's request for reconsideration because no production occurred at Levi Strauss and Company, Powell, Tennessee during the twelve-month period prior to the petition date (April 15, 2004). The Department's Notice was published in the Federal Register on October 8, 2004 (69 FR 60430).

By letter dated November 10, 2004, the petitioner filed an appeal with the USCIT, alleging that the subject worker group supported a TAA-certified facility during the twelve-month period prior to the petition date of April 15, 2004: Levi Strauss and Company, San Antonio, Texas (TA-W-41,377E).

In order to investigate the petitioner's new allegation, the Department filed a motion for voluntary remand. In an Order issued on January 20, 2005, the USCIT granted the Department's motion.

The Department conducted a remand investigation in order to determine whether the subject worker group met the criteria set forth in the Trade Act of 1974 for TAA certification as primarily-affected workers. Section 222(a) of the Trade Act (19 U.S.C. 2272(a)) provides:

A group of workers (including workers in any agricultural firm or subdivision of an agricultural firm) shall be certified by the Secretary as eligible to apply for adjustment assistance under this part pursuant to a petition filed under section 2271 of this title if the Secretary determines that—

(1) A significant number or proportion of the workers in such workers' firm, or an appropriate subdivision of the firm, have become totally or partially separated, or are threatened to become totally or partially separated; and

(2)(A)(i) The sales or production, or both, of such firm or subdivision have decreased absolutely;

(ii) Imports of articles like or directly competitive with articles produced by such firm or subdivision have increased; and

(iii) The increase in imports described in clause (ii) contributed importantly to such workers' separation or threat of separation and to the decline in the sales or production of such firm or subdivision; or

(B)(i) There has been a shift in production by such workers' firm or subdivision to a foreign country of articles like or directly competitive with articles which are produced by such firm or subdivision; and

(ii)(I) The country to which the workers' firm has shifted production of the articles is a party to a free trade agreement with the United States;

(II) The country to which the workers' firm has shifted production of the articles is a beneficiary country under the Andean Trade Preference Act, African Growth and Opportunity Act, or the Caribbean Basin Economic Recovery Act; or

(III) There has been or is likely to be an increase in imports of articles that are like or directly competitive with articles which are or were produced by such firm or subdivision.

During the remand investigation, the Department raised additional questions and obtained detailed supplemental responses from the company. In particular, the new information provided by two managers who worked at the subject facility and confirmed by the director of human resources located in Weston, Florida who is familiar with the Knoxville, Tennessee operations, revealed that the subject worker group was engaged in activities which supported domestic subject company production, including the San Antonio, Texas facility.

The Department also investigated whether Levi Strauss, San Antonio, Texas was TAA-certifiable during the relevant period. The investigation revealed that the San Antonio, Texas facility closed in January 2004 and that increased company imports during the relevant period contributed importantly to the plant's closure and the worker group's separations.

The Department has determined that all criteria regarding ATAA for the subject worker group have been met. A significant number or proportion of the worker group are age fifty years or over, the workers possess skills that are not easily transferable and competitive conditions within the garment industry are adverse.

Conclusion

After careful review of the facts generated during the remand investigation, I determine that increased imports of articles like or directly competitive with those produced at the subject firm contributed importantly to the total or partial separation of workers at the subject facility. In accordance with the provisions of the Act, I make the following certification:

All workers of Levi Strauss and Company, Knoxville, Tennessee, who became totally or partially separated from employment on or after April 15, 2003, through two years from the issuance of this revised determination, are eligible to apply for Trade Adjustment Assistance under section 223 of the Trade Act of 1974, and are also eligible to apply for Alternative Trade Adjustment Assistance under Section 246 of the Trade Act of 1974.

Signed at Washington, DC, this 21st day of March, 2005.
Elliott S. Kushner,
Certifying Officer, Division of Trade Adjustment Assistance.

[FR Doc. E5-1347 Filed 3-25-05; 8:45 am]

BILLING CODE 4510-30-P